DEPARTMENT OF COMMERCE

Bureau of Industry and Security

15 CFR Part 744

[Docket No. 180712626-8840-01]

RIN 0694-AH61

Review of Controls for Certain Emerging Technologies

AGENCY: Bureau of Industry and Security, Commerce.

ACTION: Advance notice of proposed rulemaking (ANPRM), Extension of comment period.

SUMMARY: The Bureau of Industry and Security (BIS) is extending the comment period for its November 19, 2018, advanced notice of proposed rulemaking (ANPRM), “Review of Controls for Certain Emerging Technologies” until January 10, 2019. In response to requests received from members of the public, BIS believes it is appropriate to extend the comment period to provide interested parties additional time to submit their responses to the ANPRM.

DATES: The comment period announced in the notice that was published on November 19, 2018 (83 FR 58201) is extended. Comments on the ANPRM must now be received by BIS on or before January 10, 2019.

ADDRESSES: You may submit comments through either of the following:

• Federal eRulemaking Portal: http://www.regulations.gov. The identification number for this rulemaking is BIS 2018-0024.

• Address: By mail or delivery to Regulatory Policy Division, Bureau of Industry and Security, U.S. Department of Commerce, Room 2099B, 14th Street and Pennsylvania Avenue NW, Washington, DC 20230. Refer to RIN 0694-AH61.

FOR FURTHER INFORMATION CONTACT: Kirsten Mortimer, Office of National Security and Technology Transfer Controls, Bureau of Industry and Security, Department of Commerce. Phone: (202) 482-0092; Fax (202) 482-3355; Email: Kirsten.Mortimer@bis.doc.gov.

SUPPLEMENTARY INFORMATION:

Background

On November 19, 2018 (83 FR 58201), the Bureau of Industry and Security (BIS) published an advanced notice of proposed rulemaking, “Review of Controls for Certain Emerging Technologies,” which included a comment period deadline of December 19, 2018. Since publication, BIS has received requests for additional time to submit comments. In response to those requests, BIS is extending the public comment period until January 10, 2019. A description of the specific topics and issues that BIS would like addressed is outlined in the November 19, 2018 Federal Register ANPRM.

Dated: December 10, 2018.
Matthew S. Borman,
Deputy Assistant Secretary for Export Administration.

[FR Doc. 2018-27148 Filed 12-13-18; 8:45 am]

BILLING CODE 3510-33-P